DEPARTMENT OF THE INTERIOR

Bureau of Land Management

[CACA 49537 LLCAD08000 L51010000.FX0000 LVRWB11B4670]

Notice of Intent To Prepare a Supplemental Draft Environmental Impact Statement for the K Road Calico Solar Project, San Bernardino County, CA

AGENCY: Bureau of Land Management, Interior.

ACTION: Notice of Intent.

SUMMARY: In compliance with the National Environmental Policy Act of 1969 (NEPA), as amended, and the Federal Land Policy and Management Act of 1976 (FLPMA), as amended, the Bureau of Land Management (BLM), California Desert District, intends to prepare a Supplemental Draft Environmental Impact Statement (EIS) for an amendment to the right-of-way (ROW) grant for the K Road Calico Solar Project (Project) in San Bernardino County, California.

DATES: The BLM will provide a 45-day public comment period upon publication of the Supplemental Draft EIS.

ADDRESSES:

• Web site: http://www.blm.gov/ca/st/en/fo/barstow/K Road_Calico_Solar.html.

• E-mail: CalicoPV_SEIS@blm.gov.

• Fax: (760) 252-6098.

• Mail: Bureau of Land Management, Joan Patrovsky, Project Manager, 2601 Barstow Road, Barstow, California 92311.

FOR FURTHER INFORMATION CONTACT: Joan Patrovsky, BLM Project Manager, or Edy Seehafer, BLM NEPA Compliance Coordinator, telephone (760) 252-6000. Please contact Ms. Patrovsky if you'd like to have your name added to our mailing list. See also ADDRESSES section, above. News media inquiries should be directed to the California Desert District Office, Public Affairs Office, David Briery, 22835 Calle San Juan De Los Lagos, Moreno Valley, California 92553, telephone (951) 697-5220, or e-mail: dbriery@blm.gov.

SUPPLEMENTARY INFORMATION: K Road is seeking approval to construct and operate an electrical generating facility with a nominal capacity of approximately 664 megawatts (MW). The project would use photovoltaic (PV) panels and may include some solar thermal power. Approximately 4,604 acres of BLM-administered public land and 9 acres of privately owned land are needed to develop the Project. K Road has submitted an application to the BLM requesting to amend their ROW grant to change portions of the approved facility from 100 percent SunCatcher technology to PV technology and potentially some SunCatcher technology.

On October 20, 2010, the BLM approved the Calico Solar ROW grant, which would develop a solar thermal energy generating facility in a project area north of Interstate 40 between Newberry Springs and Hector, California approximately 37 miles east of Barstow, California. The grant holder, K Road Calico Solar, LLC has applied to the BLM for a ROW grant amendment on public lands to construct the solar facility in two phases including a change in technology: Phase 1 (275 MW and 1,863 acres) will consist of PV panels, an access road, a central services complex, an on-site substation, and a underground water utility line. Phase 2 (2,750 acres, 389 MW) will consist of PV panels and may include some SunCatcher technology.

Construction would begin in early 2013. Although construction would take approximately 48 months to complete, renewable energy power would be available to the grid as each phase is completed. The facility would be expected to operate for approximately 20 years.

A new 230-kV substation would be built in the center of the project area and would connect to the existing Pisgah Substation via an approximately two-mile long single-circuit, 230-kV transmission line.

The 2010 Final EIS and Proposed Amendment to the California Desert Conservation Area Plan for the Calico Solar Project considered this type of technology but did not analyze it in detail. The Supplemental Draft EIS will analyze this alternative in detail, including any additional site-specific impacts resulting from the change in technology and additional ancillary facilities or relocation of facilities. This includes impacts to air quality, biological resources, cultural resources, water resources, geological resources and hazards, hazardous materials handling, noise, paleontological resources, public health, socioeconomics, soils, traffic and transportation, visual resources, waste management and worker safety and fire protection, as well as facility design engineering, efficiency, reliability, transmission system engineering and transmission line safety and nuisance.

If the ROW amendment is approved by the BLM, a multi-technology solar power plant facility on public lands would be authorized in accordance with Title V of FLPMA and the BLM's ROW Regulations at 43 CFR part 2800. A certificate designating approval by the California Energy Commission must be obtained by K Road before it may construct the portion of Phase two involving “SunCatcher” solar facilities.

Authority: 40 CFR 1502.9(c) and 43 CFR 1610.2.

Thomas Pogacnik,
Deputy State Director.

[FR Doc. 2011-27558 Filed 10-24-11; 8:45 am]

BILLING CODE 4310-40-P